DEPARTMENT OF COMMERCE

National Oceanic and Atmospheric Administration

RIN 0648-XB094

Takes of Marine Mammals Incidental to Specified Activities; Taking Marine Mammals Incidental to Sturgeon Research in the Gulf of Mexico

AGENCY: National Marine Fisheries Service (NMFS), National Oceanic and Atmospheric Administration (NOAA), Commerce.

ACTION: Notice; withdrawal of a request for incidental take authorization.

SUMMARY: Notice is hereby given that the U.S. Fish and Wildlife Service (FWS) has withdrawn its request for authorization to take small numbers of marine mammals incidental to conducting sturgeon research in the Gulf of Mexico (GOM), over the course of five years from the date of issuance.

FOR FURTHER INFORMATION CONTACT: Ben Laws, Office of Protected Resources, NMFS, (301) 427-8401.

SUPPLEMENTARY INFORMATION: On January 27, 2012, we received a complete application from FWS requesting authorization for take of four species of marine mammal incidental to sturgeon research conducted by and in collaboration with FWS in the GOM. On April 10, 2012 (77 FR 21539), we published a Notice of Receipt of that request in the Federal Register, inviting information, suggestions, and comments on FWS's application and request. We did not receive any comments in response to the notice.

Two bottlenose dolphins (Tursiops truncatus) were incidentally killed on April 12, 2011, in gillnets deployed during sturgeon research conducted for the Natural Resources Damage Assessment of the Deepwater Horizon oil spill. As a result, FWS determined that this and other similar research had the potential to incidentally take additional marine mammals via entanglement in gillnets, resulting in injury, serious injury, or mortality. Therefore, FWS determined that a request for incidental take authorization was warranted, and requested authorization to take bottlenose dolphins, Atlantic spotted dolphins (Stenella frontalis), pantropical spotted dolphins (S. attenuata), and striped dolphins (S. coeruleoalba) by injury, serious injury, or mortality.

On April 15 and July 8, 2011, respectively, NMFS' Southeast Regional Office (SERO) provided FWS with marine mammal mitigation measures for spring sampling and marine mammal conservation measures and recommendations for summer and fall sampling. These measures were designed to prevent additional incidents of take incidental to sturgeon research, and FWS agreed to adhere to these measures. Subsequently, NMFS' Office of Protected Resources determined, in consultation with SERO, that implementation of the measures as described would mitigate the risk of incidental capture of marine mammals in sturgeon sampling gear to discountable levels. Therefore, we determined that an incidental take authorization was no longer warranted. On February 14, 2014, FWS submitted a withdrawal of their previous request for incidental take authorization, reiterating their commitment to working closely with NMFS and other partners on sturgeon research in the GOM while implementing the mitigation measures as described by SERO. No further incidents of incidental capture have occurred since FWS began implementing the prescribed measures.

Dated: March 28, 2014.
Donna S. Wieting,
Director, Office of Protected Resources, National Marine Fisheries Service.

[FR Doc. 2014-07367 Filed 4-2-14; 8:45 am]

BILLING CODE 3510-22-P